DEPARTMENT OF LABOR

Occupational Safety and Health Administration

[Docket No. OSHA-2017-0007]

Advisory Committee on Construction Safety and Health (ACCSH)

AGENCY: Occupational Safety and Health Administration (OSHA), Labor.

ACTION: Announcement of a teleconference meeting of ACCSH.

SUMMARY: ACCSH will hold a teleconference meeting June 20, 2017, to consider a proposed rule to extend the enforcement date for OSHA's crane operator certification requirement in the Cranes and Derricks in Construction standard for an additional year until November 10, 2018. OSHA also proposes to extend the existing employer duty to ensure that crane operators are trained and competent to operate equipment safely for the same period of time.

DATES: ACCSH will meet from 1 to 5 p.m., ET, Tuesday, June 20, 2017.

Submit (postmark, send, transmit) comments, requests to address the ACCSH meeting, speaker presentations (written or electronic), and requests for special accommodations for the ACCSH meeting by June 9, 2017.

ADDRESSES: Submission of comments, requests to speak, and speaker presentations for the ACCSH meeting: Submit comments, requests to speak, and speaker presentations for the ACCSH meeting, using one of the following methods:

Electronically: Submit materials, including attachments, electronically at http://www.regulations.gov, which is the Federal eRulemaking Portal. Follow the on-line instructions for submissions.

Facsimile (Fax): If the submission, including attachments, does not exceed 10 pages, you may fax it to the OSHA Docket Office at (202) 693-1648.

Regular mail, express mail, hand delivery, or messenger (courier) service: Submit materials to the OSHA Docket Office, Docket No. OSHA-2017-0007, Room N-3508, U.S. Department of Labor, 200 Constitution Avenue NW., Washington, DC 20210; telephone: (202) 693-2350 (TTY (877) 889-5627). OSHA's Docket Office accepts deliveries (hand deliveries, express mail, and messenger service) during normal business hours, 10:00 a.m.-3:00 p.m., ET, weekdays.

Instructions: Submissions must include the agency name and docket number for this Federal Register notice (Docket No. OSHA-2017-0007). Due to security-related procedures, submissions by regular mail may experience significant delays. Please contact the OSHA Docket Office for information about security procedures for making submissions. For additional information on submitting comments, requests to speak, and speaker presentations, see the SUPPLEMENTARY INFORMATION section of this notice.

OSHA will post comments, requests to speak, and speaker presentations, including any personal information provided, without change, at http://www.regulations.gov. Therefore, OSHA cautions you about submitting personal information such as Social Security numbers and birthdates.

Location of the ACCSH meeting: This ACCSH meeting will be by teleconference only.

Requests for special accommodations: Attendance at this ACCSH meeting will be by teleconference only. Please submit requests for telecommunication requirements or for special accommodations for this ACCSH meeting to Ms. Veneta Chatmon, OSHA, Directorate of Construction, Room N-3468, U.S. Department of Labor, 200 Constitution Avenue NW., Washington, DC 20210; telephone: (202) 693-2020; email: chatmon.veneta@dol.gov.

FOR FURTHER INFORMATION CONTACT: For press inquiries: Mr. Frank Meilinger, Director, OSHA Office of Communications, Room N-3647, U.S. Department of Labor, 200 Constitution Avenue NW., Washington, DC 20210; telephone: (202) 693-1999; email: meilinger.francis2@dol.gov.

For general information about this ACCSH meeting: Mr. Damon Bonneau, OSHA, Directorate of Construction, Room N-3468, U.S. Department of Labor, 200 Constitution Avenue NW., Washington, DC 20210; telephone: (202) 693-2020; email: bonneau.damon@dol.gov.

Copies of this Federal Register notice: Electronic copies of this Federal Register notice are available at http://www.regulations.gov. This notice, as well as news releases and other relevant information, also are available on the OSHA Web page at http://www.osha.gov.

SUPPLEMENTARY INFORMATION:

ACCSH Meeting

Background: ACCSH will meet June 20, 2017, by teleconference. The meeting is open to the public. OSHA transcribes ACCSH meetings and prepares detailed minutes of meetings. OSHA places the transcript and minutes in the public docket for the meeting. The docket also includes speaker presentations, comments, and other materials submitted to ACCSH.

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the OSH Act and CSA require that the Assistant Secretary consult with ACCSH before the Agency proposes any occupational safety and health standard affecting construction activities (29 CFR 1911.10; 40 U.S.C. 3704).

Meeting agenda: The tentative agenda for this meeting includes:

• Presentation on OSHA's proposed rule to extend the enforcement date for the crane operator certification requirements and the existing employer duty in the Cranes and Derricks in Construction standards (29 CFR part 1926, subpart CC);

• ACCSH's consideration of, and recommendation on, OSHA's Proposed Rule to extend the enforcement date for the crane operator certification requirements and the existing employer duty in the Cranes and Derricks in Construction standards (29 CFR part 1926, subpart CC); and,

• Public Comment Period.

Attending the meeting: Attendance at this ACCSH meeting will be by teleconference only. The dial-in number and passcode for the meeting are as follows: Dial-in number: 1-888-604-9368; Passcode: 8521818. For additional information about attending ACCSH meetings, please contact Ms. Chatmon (see “Requests for special accommodations” in the ADDRESSES section of this notice).

Requests to speak and speaker presentations: Attendees who want to address ACCSH during the meeting must submit a request to speak, as well as any written or electronic presentation, by June 9, 2017, using one of the methods listed in the ADDRESSES section. The request must state:

• The amount of time requested to speak;

• The interest you represent (e.g., business, organization, affiliation), if any; and

• A brief outline of your presentation.

PowerPoint presentations and other electronic materials must be compatible with PowerPoint 2010 and other Microsoft Office 2010 formats.

Alternately, you may request to address ACCSH briefly during the public comment period.

The ACCSH Chair may grant requests to address ACCSH as time and circumstances permit.

Public docket of the ACCSH meeting: OSHA will place comments, requests to speak, and speaker presentations, including any personal information you provide, in the public docket of this ACCSH meeting without change, and those documents may be available online at: http://www.regulations.gov. OSHA also places in the public docket the meeting transcript, meeting minutes, documents presented at the ACCSH meeting, and other documents pertaining to the ACCSH meeting. These documents are available online at: http://www.regulations.gov.

Access to the public record of the ACCSH meeting: To read or download documents in the public docket of this ACCSH meeting, go to Docket No. OSHA-2017-0007 at: http://www.regulations.gov. The http://www.regulations.gov index also lists all documents in the public record for this meeting; however, some documents (e.g., copyrighted materials) are not publicly available through that Web page. All documents in the public record, including materials not available through http://www.regulations.gov, are available for inspection in the OSHA Docket Office (see ADDRESSES section). Contact the OSHA Docket Office for assistance in making submissions to, or obtaining materials from, the public docket.

Authority and Signature

Dorothy Dougherty, Deputy Assistant Secretary of Labor for Occupational Safety and Health, directed the preparation of this notice under the authority granted by 29 U.S.C. 656; 40 U.S.C. 3704; 5 U.S.C. App. 2; 29 CFR parts 1911 and 1912; 41 CFR 102-3; and Secretary of Labor's Order No. 1-2012 (77 FR 3912, Jan. 25, 2012).

Signed at Washington, DC, on May 31, 2017.
Dorothy Dougherty,
Deputy Assistant Secretary of Labor for Occupational Safety and Health.

[FR Doc. 2017-11588 Filed 6-5-17; 8:45 am]

BILLING CODE 4510-26-P